LEGAL SERVICES CORPORATION

Request for Letters of Intent To Apply for 2019 Pro Bono Innovation Fund Grants

AGENCY: Legal Services Corporation.

ACTION: Notice.

SUMMARY: The Legal Services Corporation (LSC) issues this Notice describing the conditions for submitting a Letters of Intent (LOI) to Apply for 2019 Pro Bono Innovation Fund grants. This notice and application information are posted at www.lsc.gov/pbifgrants.

DATES: Letters of Intent must be submitted by Wednesday, January 23, 2019 by 11:59 p.m. Eastern Time.

ADDRESSES: Letters of Intent must be submitted electronically through http://lscgrants.lsc.gov.

FOR FURTHER INFORMATION CONTACT: For more information about current Pro Bono Innovation Fund projects, please contact Mytrang Nguyen, Program Counsel, (202) 295-1564 or nguyenm@lsc.gov. For general questions about the Pro Bono Innovation Fund application process, please email probonoinnovation@lsc.gov. For technical questions or issues with the LSC Grants online application system, please email techsupport@lsc.gov.

SUPPLEMENTARY INFORMATION: The Legal Services Corporation (LSC) issues this Notice describing the conditions for submitting a Letter of Intent to Apply (LOI) for 2019 Pro Bono Innovation Fund grants. This notice and application information are posted at www.lsc.gov/pbifgrants.

I. Introduction

Since 2014, Congress has provided an annual appropriation to LSC “for a Pro Bono Innovation Fund.” See, e.g., Consolidated Appropriations Act, 2017, Public Law 115-31, 131 Stat. 135 (2017). LSC requested these funds for grants to “develop, test, and replicate innovative pro bono efforts that can enable LSC grantees to expand clients' access to high quality legal assistance.” LSC Budget Request, Fiscal Year 2014 at 26 (2013). The grants must involve innovations that are either “new ideas” or “new applications of existing best practices.” Id. Each grant would “either serve as a model for other legal services providers to follow or effectively replicate a prior innovation. Id. The Senate Appropriations Committee explained that these funds “will support innovative projects that promote and enhance pro bono initiatives throughout the Nation,” and the House Appropriations Committee directed LSC “to increase the involvement of private attorneys in the delivery of legal services to [LSC-eligible] clients.” Senate Report 114-239 at 123 (2016), House Report 113-448 at 85 (2014).

LSC sought these funds based on the 2012 recommendation of the LSC Pro Bono Task Force. Since its inception, the Pro Bono Innovation Fund has advanced LSC's goal of increasing the quantity and quality of legal services by funding projects that more efficiently and effectively involve pro bono volunteers in serving the critical unmet legal needs of LSC-eligible clients. In 2017, LSC built on these successes by creating three funding categories to better focus on innovations serving unmet and well-defined client needs (Project Grants), on building comprehensive and effective pro bono programs through new applications of existing best practices (Transformation Grants), and on providing continued development support for the most promising innovations (Sustainability Grants).

II. Funding Opportunities Information

A. Eligible Applicants

To be eligible for the Pro Bono Innovation Fund's Project, Sustainability, and Transformation grants, Applicants must be current grantees of LSC Basic Field-General, Basic Field-Migrant, or Basic Field-Native American grants. In addition, Sustainability Grant Applicants must also be a former or current Pro Bono Innovation Fund grantee from the FY17 grant making cycle.

B. Pro Bono Innovation Fund Purpose and Key Goals

Pro Bono Innovation Fund grants develop, test, and replicate innovative pro bono efforts that can enable LSC grantees to use pro bono volunteers to serve larger numbers of low-income clients and improve the quality and effectiveness of the services provided. The key goals of the Pro Bono Innovation Fund are to:

1. Address gaps in the delivery of legal services to low-income people;

2. Engage more lawyers and other volunteers in pro bono service;

3. Develop, test, and replicate innovative pro bono efforts.

C. Funding Opportunities

1. Project Grants

The goal of Pro Bono Innovation Fund Project Grants is to leverage volunteers to meet a critical, unmet and well-defined client need. Consistent with the key goals of the Pro Bono Innovation Fund, applicants are encouraged to focus on engaging volunteers to increase free civil legal aid for low-income Americans by proposing new, replicable ideas. Applicants are strongly encouraged to research prior successful Pro Bono Innovation Fund projects and Sustainability Grants to replicate, adapt, or create enhancements to prior effective pro bono projects. LSC will be particularly receptive to applications that propose to replicate projects LSC has previously funded with “Sustainability” Grants. Our Sustainability Grants have included:

• Community-based partnerships, like the Medical-Legal Partnership of Community Legal Aid, Inc. (MA) or the school-based clinic of Legal Aid of West Virginia, Inc., that work with law firms to provide legal services where clients are located;

• Court-based partnerships, like those at Legal Action of Wisconsin, Inc., and Legal Services Law Line of Vermont, Inc., that use pro bono volunteers to provide same-day, in-court representation and legal assistance;

• An “emeritus” project at The Legal Aid Society of Cleveland (LASC) that provides transitioning and retired attorneys with varied and substantive opportunities to support the LASC's advocates and clients;

• A neighborhood-based project at Legal Aid of Western Missouri that engages transactional attorneys to assist clients in distressed and underserved communities.

Project Grants can be either 18 or 24 months.

2. Transformation Grants

The goal of Pro Bono Innovation Fund Transformation Grants is to support LSC grantees in comprehensive assessment and restructuring of pro bono programs through new applications of existing best practices in pro bono delivery. Each Transformation Grant will support a rigorous and extensive assessment of an LSC grantee's pro bono program, the identification of best practices in pro bono delivery that are best suited to that grantee's needs and circumstances, and the development and implementation of short- and long-term improvements to organizational policies, management, and operations. Transformation Grants are 24 months and targeted towards LSC grantees whose leadership is committed to restructuring an entire pro bono program and incorporating pro bono best practices into core, high-priority client services with an urgency to create a high-impact pro bono program. This funding opportunity is open to all LSC grantees, but is primarily intended for LSC grantees who have been unsuccessful applying for Project Grants or who have never applied for a Pro Bono Innovation Fund grant in the past.

3. Sustainability Grants

Pro Bono Innovation Fund Sustainability Grants are available to current or former Pro Bono Innovation Fund grantees who were funded in FY 2017. The goal of Sustainability Grants is to support further development of the most promising and replicable Pro Bono Innovation Fund projects with an additional 24 months of funding so grantees can leverage new sources of revenue for the project, collect meaningful data to demonstrate the project's results and outcomes for clients and volunteers, and quantify the return on LSC's investment of Pro Bono Innovation Fund dollars. Applicants for Sustainability Grants will be required to propose an ambitious match requirement, tied to realistic goals that reduce the Pro Bono Innovation Fund contribution to the project over the grant term.

D. Available Funds for FY 2019

The availability of funds for Pro Bono Innovation Fund grants for FY 2019 depends on LSC's appropriation. LSC is currently operating under a Continuing Resolution for FY 2019 which funds the federal government through December 7, 2018. The Continuing Resolution maintains funding at $410 million. Pro Bono Innovation Fund grant decisions for FY 2019 will be made in the summer of 2019. LSC anticipates knowing the total amount available for Pro Bono Innovation Fund grants before August.

In FY 2018, LSC received an appropriation of $4.5 million, of which $4.25 million was available for direct grants to support Pro Bono Innovation Fund projects. In 2018, fifteen Pro Bono Innovation Fund applications received funding with a median funding amount of $293,650. There is no maximum amount for Pro Bono Innovation Fund requests that are within the total funding available.

LSC will not designate fixed or estimated amounts for the three different funding categories and will make grant awards for the three categories within the total amount of funding available.

E. Project and Grant Term

Pro Bono Innovation Fund grant awards will cover an 18- to 24-month period. Applicants for Project Grants can apply for either an 18- or a 24-month grant. Applicants for Transformation Grants and Sustainability Grants apply for a 24-month grant only. Applicants' proposals should cover the full term for which a grant award is requested. The grant term is expected to commence on October 1, 2019.

III. Grant Application Process and Letter of Intent To Apply Instructions

A. Pro Bono Innovation Fund Grant Application Process

LSC is committed to reviewing all Pro Bono Innovation Fund grant applications in a timely and thorough manner. Applicants must first submit a Letter of Intent (LOI) to Apply for Funding to LSC by January 23, 2019 to be considered for a grant. After review by LSC Staff, LSC's President makes the final decision on which applicants will be asked to submit a detailed, full application due to LSC in April. Applicants will be notified of invitations to full application by February 2019. Once LSC has received a full application from a selected applicant, the application will undergo a rigorous review by LSC staff and external subject matter experts. LSC's President makes the final decision on funding for the Pro Bono Innovation Fund.

B. Late or Incomplete Applications

LSC may consider an LOI after the deadline, but only if the Applicant has submitted an email to probonoinnovation@lsc.gov explaining the circumstances that caused the delay prior to the applicable deadline. Communication with LSC staff, including assigned Program Liaisons, is not a substitute for sending an explanatory email to probonoinnovation@lsc.gov. At its discretion, LSC may consider incomplete applications. LSC will determine the admissibility of late or incomplete applications on a case-by-case basis.

C. Letters of Intent To Apply for Funding Requirements and Format

The LOI should succinctly summarize the information requested for the category of funding the applicant seeks. A complete LOI consists of: (1) A narrative that responds to the questions for the funding category; and (2) a budget form. Applicants must submit the LOI electronically using the LSC Grants online system found at http://lscgrants.lsc.gov. The system will be live for applicants in mid-December 2018.

The LOI narrative should be a Word or PDF document submitted in the LSC Grants system. The narrative must not exceed 5 double-spaced pages or approximately 1,300 words in Times New Roman, 12-point font. The LOI narrative must be paginated. The budget form is an online form that is submitted in LSC Grants. Applicants who do not follow the above formatting requirements for the Narrative submission may be subject to scoring penalties.

Applicants may submit multiple LOIs under the same or different funding category. If applying for multiple grants, applicants should submit a separate LOI in LSC Grants for each funding request.

1. Project Grants

The LOI Narrative for Project Grants should respond to the following questions.

a. Project Description. Please provide a brief description of the proposed project that includes:

• The specific client need and challenge or opportunity in the pro bono delivery system that the project will address.

• The goals and objectives of the project, the activities that make up the project, and how those activities will link to and achieve the stated goals and objectives.

• Strong indication of volunteer interest in and support for the project.

• The expected impact of the project. This should include a brief explanation of the changes and outcomes that will be created as a result of the project.

• The proposed strategies that are innovative or the best practices being replicated, including a brief discussion of how these strategies or best practices were identified.

b. Project Staff, Organizational Capacity, and Project Partners. Please briefly identify and describe the project team and project partners including:

• The qualifications and relevant experience of the proposed project team, any proposed partner organizations, and your organization.

• The role of your organization's executive management in the design and implementation of the project.

c. Budget and Timeline. Please state whether you are proposing an 18- or 24-month project and provide the following information about the estimated project costs:

• Estimated total project cost. This includes the estimate for the Pro Bono Innovation Fund requested amount and other in-kind or cash contributions to support the project. Your narrative should provide a breakdown of the major project expenses including, but not limited to, personnel, project expenses, contracts or sub-grants, etc., and how each expense supports the project design.

• For expenses related to personnel, please indicate how many and which positions will be fully or partially funded by the proposed grant.

• A list of any anticipated contributions, both in-kind and monetary, from all partners involved in the project.

• A list of key partners who will receive Pro Bono Innovation Fund funding, including their roles and the estimated dollar amount or percent of budget assigned to each partner.

2. Transformation Grants

The LOI Narrative for Transformation Grants should respond to the following questions.

a. Transformation Strategy: Please explain why you are seeking a Transformation Grant for your pro bono program. In your response, please include:

• An honest assessment of the challenges with your organization's current pro bono efforts that inhibit your ability to test, develop, and replicate innovations, and the reasons for them.

• At least three specific and important improvements to your organization's pro bono program that you would like to achieve in the first year of a two-year Transformation Grant.

b. Guiding Coalition: Please describe the core team who would be responsible for the pro bono transformation effort in your organization. In your response, please state:

• The qualifications and relevant experience of each proposed team member.

• Whether a majority of your executive and senior managers agree that your organization's pro bono program needs significant improvements.

• The role your organization's executive director and/or senior managers would play in a pro bono transformation effort.

c. Budget. Please describe what you would like the Transformation Grant to fund over the 24-month grant period. In your response, please include the following information about the anticipated costs associated with a transformation effort for your pro bono program:

• The estimated total cost and a clear description of what the grant will fund. Your narrative should provide a breakdown of the major expenses including, but not limited to, personnel, project expenses, contracts or sub-grants, etc., and how each expense supports the transformation effort to improve your pro bono program.

• For expenses related to personnel, please indicate how many and which positions will be fully or partially funded by the proposed grant.

• For contracts, please describe whether you intend to use consultants, implement new technology systems, conduct business process analysis, etc. and how this supports improvements to you pro bono program.

3. Sustainability Grants

The LOI Narrative for Sustainability Grants should respond to the following questions.

a. Justification for Sustaining the Pro Bono Innovation Project. Please describe why you are seeking a Sustainability Grant. In your response, please discuss the following:

• The impact of the Pro Bono Innovation Fund project to date, supported by data and analysis as to whether the goals of the project were achieved.

• Evidence of ongoing client need and how you intend to make the project part of your core legal services.

• The level of engagement of pro bono volunteers/private bar and the best practices in pro bono delivery that can be replicated by others.

• How ongoing program evaluation and data collection will be incorporated into the project.

b. Project Staff and Management Support. Please briefly identify and describe the project team and project partners. In your response, please include the following:

• The project staff that will be responsible for the sustainability phase of the project. Please include any additional staff, descriptions of new responsibilities for existing project staff and/or organizational changes that will be made.

• The role of your organization's executive management in the decision to seek this Sustainability Grant and recent examples of your organization's track record turning “new” or special projects into core legal services.

c. Budget and Match Requirement. Please describe what you would like the Sustainability Grant to fund. In your response, please be sure to provide the following information:

• Estimated total project cost. This includes the estimate for the Pro Bono Innovation Fund requested amount and other in-kind or cash contributions to support the project. Your narrative should provide a breakdown of the major project expenses including, but not limited to, personnel, project expenses, etc., and how each expense supports the project design.

• A narrative proposing an ambitious match requirement that reduces the Pro Bono Innovation Fund contribution to the project for the grant term. LSC is not setting a specific percentage of required match for Sustainability Grant applicants, but will assess the two-year budget from the applicant's previously funded project with the grant amount proposed in the Sustainability LOI. LSC's expectation is that applicants will propose a meaningful shift from Pro Bono Innovation Fund support to other sources of support during the grant term.

• A narrative discussing the potential sources of funding that have been or will be cultivated. If the project has already received new financial support, please provide the source and amount committed and further describe the plans for ensuring continued financial support.

Dated: November 19, 2018.
Mark F. Freedman,
Senior Associate General Counsel.

[FR Doc. 2018-25557 Filed 11-21-18; 8:45 am]

BILLING CODE 7050-01-P